NUCLEAR REGULATORY COMMISSION

[Docket No. 40-8907; NRC-2019-0026]

United Nuclear Corporation; Church Rock Uranium Mill Site; Correction

AGENCY: Nuclear Regulatory Commission.

ACTION: Environmental impact statement and programmatic agreement; issuance; correction.

SUMMARY: The U.S. Nuclear Regulatory Commission (NRC) is correcting a notice that was published in the Federal Register on January 13, 2023, regarding a final Environmental Impact Statement for United Nuclear Corporation's (UNC) request for a license amendment, as well as the issuance of a final Programmatic Agreement that provides requirements for the NRC, U.S. Environmental Protection Agency, and UNC to follow to ensure that cultural resources are protected during project activities. This action is necessary to correct the signature date of the notice.

DATES: January 23, 2023.

ADDRESSES: Please refer to Docket ID NRC-2019-0026 when contacting the NRC about the availability of information regarding this document. You may obtain publicly available information related to this document using any of the following methods:

• Federal Rulemaking Website: Go to https://www.regulations.gov and search for Docket ID NRC-2019-0026. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Christine Pineda, Office of Nuclear Material Safety and Safeguards, U.S. Nuclear Regulatory Commission, Washington, DC 20555-0001, telephone: 301-415-6789, email: Christine.Pineda@nrc.gov.

SUPPLEMENTARY INFORMATION: In the Federal Register on January 13, 2023, in FR Doc. 2023-00273, on page 2378, in the first column, first line, the date of “January 5, 2022” is corrected to read “January 5, 2023.”

Dated: January 17, 2023.
For the Nuclear Regulatory Commission.
Christopher M. Regan,
Director, Division of Rulemaking, Environmental, and Financial Support, Office of Nuclear Material Safety and Safeguards.

[FR Doc. 2023-01109 Filed 1-20-23; 8:45 am]

BILLING CODE 7590-01-P